FEDERAL EMERGENCY MANAGEMENT AGENCY

44 CFR Part 206

RIN 3067-AD32

Disaster Assistance; Crisis Counseling Regular Program; Amendment to Regulation

AGENCY: Federal Emergency Management Agency (FEMA).

ACTION: Interim final rule.

SUMMARY: We, FEMA, are publishing an interim final rule to make a substantive change that would in limited circumstances allow the Assistant Associate Director to extend the deadline for the Crisis Counseling Regular Program. This rule takes effect immediately, but before publishing a final rule on this subject we ask for and invite comments from all interested and affected parties.

DATES: Effective date: March 3, 2003. Applicability date: This rule applies to Major Disasters Declared on or after September 11, 2001.

We invite comments on this interim final rule, which we should receive on or before May 2, 2003.

ADDRESSES: Please send any comments to the Rules Docket Clerk, Office of the General Counsel, Federal Emergency Management Agency, room 840, 500 C Street, SW., Washington, DC 20472, or (fax) (202) 646-4536, or (email) rules@fema.gov.

FOR FURTHER INFORMATION CONTACT: Berl Jones, Community and Family Services Branch, Recovery Division, Federal Emergency Management Agency, room 609, 500 C Street, SW., Washington, DC 20472, or (fax) (202) 646-3978, or (email) Berl.Jones@fema.gov.

SUPPLEMENTARY INFORMATION: We are amending our regulations to allow FEMA greater flexibility to extend the program period for the Crisis Counseling Regular Program. Currently, the program period for the Crisis Counseling Regular Programs is 9 months, and may be extended by the Assistant Associate Director for an additional 90 days. Under the new rule, the program period generally may be extended beyond the initial 9 months, and the additional 90 days, in limited circumstances for major disasters with catastrophic impact, such as terrorist attacks or other disasters of a catastrophic nature.

Normally, we apply changes to our regulations under the Stafford Act only to disasters declared on or after the effective date of the rule. However, the effect on the public in the New York City and Washington, DC metropolitan areas after September 11, 2001, have caused us to reevaluate the time limitations we placed on the Crisis Counseling Regular Program. Previously, such assistance was limited, by regulation, to 9 months, with the possibility of a 90 day extension. We have determined the extension of the Crisis Counseling Regular Program beyond the usual 9 months plus the additional 90 days is necessary to address the needs of the public after the catastrophic events of September 11, 2001. We have determined that this regulation should apply to the Major Disasters declared in New York and Virginia as a result of the events of September 11, 2001.

National Environmental Policy Act

This interim final rule falls within the exclusion category at 44 CFR 10.8(d)(2)(ii), which addresses the preparation, revision, and adoption of regulations, directives, and other guidance documents related to actions that qualify for categorical exclusions. Qualifying for this exclusion and because no other extraordinary circumstances have been identified, this interim final rule will not require the preparation of either an environmental assessment or environmental impact statement as defined by the National Environmental Policy Act.

Executive Order 12866, Regulatory Planning and Review

We have prepared and reviewed this rule under the provisions of E.O. 12866, Regulatory Planning and Review. Under Executive Order 12866, 58 FR 51735, October 4, 1993, a significant regulatory action is subject to OMB review and the requirements of the Executive Order. The Executive Order defines “significant regulatory action” as one that is likely to result in a rule that may:

(1) have an annual effect on the economy of $100 million or more or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

For the reasons that follow, we have concluded that this rule is neither an economically significant nor a significant regulatory action under the Executive Order. The rule will accomplish one primary purpose: To allow in limited circumstances the Assistant Associate Director to extend the program period for the Crisis Counseling Regular Program. The Office of Management and Budget has not reviewed this rule under the principles of Executive Order 12866.

Paperwork Reduction Act

This interim final rule does not contain a collection of information and it therefore is not subject to the provisions of the Paperwork Reduction Act of 1995 (44 U.S.C. 3501-3520).

Regulatory Flexibility Act

Under the Regulatory Flexibility Act agencies must consider the impact of their rulemakings on “small entities” (small businesses, small organizations and local governments). When 5 U.S.C. 553 requires an agency to publish a notice of proposed rulemaking, the Act requires a regulatory flexibility analysis for both the proposed rule and the final rule if the rulemaking could “have a significant economic impact on a substantial number of small entities.” The Act also provides that if a regulatory flexibility analysis is not required, the agency must certify in the rulemaking document that the rulemaking will not “have a significant economic impact on a substantial number of small entities.”

For the reasons that follow, I certify that a regulatory flexibility analysis is not required for this rule because it would not have a significant economic impact on a substantial number of small entities. This rule allows in limited circumstances the Assistant Associate Director to extend the program period for the Crisis Counseling Regular Program. The rule does not change in anyway the eligibility of small entities for disaster assistance.

Executive Order 13132, Federalism

Executive Order 13132, Federalism, dated August 4, 1999, sets forth principles and criteria that agencies must adhere to in formulating and implementing policies that have federalism implications, that is, regulations that have substantial direct effects on the States, or on the distribution of power and responsibilities among the various levels of government. Federal agencies must closely examine the statutory authority supporting any action that would limit the policymaking discretion of the States, and to the extent practicable, must consult with State and local officials before implementing any such action.

We have reviewed this rule under E.O. 13132 and have concluded that the rule does not have federalism implications as defined by the Executive Order. We have determined that the rule does not significantly affect the rights, roles, and responsibilities of States, and involves no preemption of State law nor does it limit State policymaking discretion, since the rule merely extends the program period for the Crisis Counseling Regular Program.

Executive Order 12778, Civil Justice Reform

This final rule meets the applicable standards of § 2(b)(2) of E.O. 12778.

Administrative Procedure Act Statement

In general, FEMA publishes a rule for public comment before issuing a final rule, under the Administrative Procedure Act, 5 U.S.C. 533 and 44 CFR 1.12. The Administrative Procedure Act, however, provides an exception from that general rule where the agency for good cause finds the procedures for comment and response contrary to public interest. The public benefit of this rule is the ability to extend the program period for the Crisis Counseling Regular Program.

Therefore, we believe it is contrary to the public interest to delay the benefits of this rule. In accordance with the Administrative Procedure Act, 5 U.S.C. 553(d)(3), we find that there is good cause for the interim final rule to take effect immediately upon publication in the Federal Register.

In addition, we believe that, under the circumstances, delaying the effective date of this rule until after a comment period would not further the public interest. For these reasons, we believe we have good cause to publish an interim final rule.

List of Subjects in 44 CFR Part 206

Administrative practice and procedure, Community facilities, Disaster Assistance, Grant programs, Loan programs, Reporting and recordkeeping requirements.

Accordingly, Amend 44 CFR part 206 as follows:

PART 206—[AMENDED]

1. The authority citation of part 206 continues to read:

Authority: Robert T. Stafford Disaster Relief and Emergency Assistance Act, 42 U.S.C. 5121-5206; Reorganization Plan No. 3 of 1978, 43 F.R. 41943; 3 CFR, 1978 Comp., p. 329; E.O. 12127, 44 F.R. 19367, 3 CFR, 1979 Comp., p. 376; E.O. 12148, 44 F.R. 43239, 3 CFR, 1979 Comp., p. 412; and E.O. 12673, 54 F.R. 12571, 3 CFR, 1989 Comp., p. 214.

2. Revise § 206.171 (g) (4) (i) to read as follows:

§ 206.171 Crisis counseling assistance and training.

* * * * *

(g) * * *

(4) * * *

(i) Shall not exceed 9 months from the date of the DHHS notice of grant award, except that upon the request of the State to the Regional Director and the Secretary, the Assistant Associate Director may authorize up to 90 days of additional program period because of documented extraordinary circumstances. In limited circumstances, such as disasters of a catastrophic nature, the Assistant Associate Director may extend the program period for more than 90 days where he or she deems it to be in the public interest.

* * * * *

Dated: February 26, 2003.
Joe M. Allbaugh,
Director.

[FR Doc. 03-4901 Filed 2-28-03; 8:45 am]

BILLING CODE 6718-02-P